DEPARTMENT OF COMMERCE

National Oceanic and Atmospheric Administration

RIN 0649-XG266

Gulf of Mexico Fishery Management Council; Public Meeting

AGENCY: National Marine Fisheries Service (NMFS), National Oceanic and Atmospheric Administration (NOAA), Commerce.

ACTION: Notice of a public meeting.

SUMMARY: The Gulf of Mexico Fishery Management Council (Council) will hold a four-day meeting to consider actions affecting the Gulf of Mexico fisheries in the exclusive economic zone (EEZ).

DATES: The meeting will be held on Monday, June 18 through Thursday, June 21, 2018.

ADDRESSES: The meeting will take place at the Marriott Beachside Key West hotel located at 3841 N. Roosevelt Boulevard, Key West, FL 33040; telephone (305) 296-8100.

Council address: Gulf of Mexico Fishery Management Council, 2203 N Lois Avenue, Suite 1100, Tampa, FL 33607; telephone (813) 348-1630.

FOR FURTHER INFORMATION CONTACT: Douglas Gregory, Executive Director, Gulf of Mexico Fishery Management Council; telephone (813) 348-1630.

SUPPLEMENTARY INFORMATION:

Agenda

Monday, June 18, 2018; 8:30 a.m.-5:30 p.m.

The Coral Committee will review and discuss taking Final Action on Amendment 9: Coral Habitat Area Considered for Management in the Gulf of Mexico. The Mackerel Committee will receive an update on Coastal Migratory Pelagics (CMP) Landings, review and discuss taking Final Action on CMP Amendment 31: Atlantic Cobia Management for Coastal Migratory Pelagic Resources in the Gulf of Mexico and Atlantic Region; and, review options for CMP Framework Amendment 7: Modifications to Gulf Cobia Size and Possession Limits. The Gulf SEDAR Committee will receive a summary from the May 2018 Steering Committee meeting.

After lunch, Sustainable Fisheries Committee will review and discuss taking Final Action on Amendment 49: Modifications to the Sea Turtle Release Gear and Framework Procedure for the Reef Fish Fishery; review proposed Aquaculture Bill and Potential Impacts; discuss draft Generic Amendment for Carryover or Unharvested Quota; and, receive the 2018 Regulatory Review.

The Council will convene in a FULL COUNCIL—CLOSED SESSION (at approximately 4 p.m.-5:30 p.m.) to review and appoint applicants to the Standing and Special Scientific and Statistical Committees (SSC); and, make final selections for the Reef Fish and Shrimp Advisory Panel members.

Tuesday, June 19, 2018; 8 a.m.-5:30 p.m.

The Reef Fish Management Committee will convene and receive an update on Reef Fish Landings; receive assessments on SEDAR 31: Hogfish Update, SEDAR 51: Gray Snapper Benchmark, and SEDAR 52: Red Snapper Standard; and receive an update on State Management Program for Recreational Red Snapper. After lunch, the committee will review a scoping document for Reallocation of Red Snapper Annual Catch Limits (ACL); review public hearing draft for Reef Fish Amendment 48/Red Drum 5: Status Determination Criteria and Optimum Yield; review draft framework action to modify the Annual Catch Target (ACT) for Red Snapper Federal For-Hire and Private Angling Components; and, receive a Scientific and Statistical Committee (SSC) summary report. Under other business, the Committee will discuss Red Grouper.

Wednesday, June 20, 2018; 8:30 a.m.-5:30 p.m.

The Ecosystem Committee will review a draft roadmap for Ecosystem-Based Fisheries Management Regional Plan for the Gulf of Mexico. The Spiny Lobster Committee will receive an update on Spiny Lobster Landings; and, review a public hearing draft for Spiny Lobster Amendment 13. The Outreach and Education Committee will review the Council's Outreach Plan on Descending and Venting; review the Anecdotal Data Collection Tool; review of Council Communication Analytics; receive a presentation on Transition from Paper Regulations to FishRules App; and receive a summary from the Outreach and Education Technical Committee meeting.

After lunch, the Full Council will reconvene with a Call to Order, Announcements, and Introductions; Adoption of Agenda and Approval of Minutes. The Council will receive presentations from Western Central Atlantic Fishery Commission—Overview and Strategic Reorientation Process, Florida Law Enforcement, and a 6-month update on Lionfish Harvesting by Lionfish International. The Council will receive open public testimony from 2:45 p.m. until 5:30 p.m. on taking Final Action on Amendment 49: Modifications to the Sea Turtle Release Gear and Framework Procedure for the Reef Fish Fishery, Final Action on Coral Amendment 9: Habitat Areas Considered for Management in the Gulf of Mexico, and Final Action on CMP Amendment 31: Atlantic Cobia Management for Coastal Migratory Pelagic Resources in the Gulf of Mexico and Atlantic Region; and, on any other fishery issues or concerns. Anyone wishing to speak during public comment should sign in at the registration station located at the entrance to the meeting room.

Thursday, June 21, 2018; 8:30 a.m.-3 p.m.

The Council will receive committee reports from Coral, Mackerel, Spiny Lobster, Sustainable Fisheries, Gulf SEDAR, Ecosystem, Outreach and Education and Reef Fish Management Committees. After lunch, the Council will review the Reef Fish and Shrimp Advisory Panel, and SSC Appointments. The Council will receive updates from the following supporting agencies: South Atlantic Fishery Management Council; Gulf States Marine Fisheries Commission; U.S. Coast Guard; U.S. Fish and Wildlife Service; and, the Department of State.

Lastly, the Council will discuss any Other Business items.

Meeting Adjourns

The meeting will be broadcast via webinar. You may register for the webinar by visiting www.gulfcouncil.org and clicking on the Council meeting on the calendar. https://attendee.gotowebinar.com/register/3383291116212545537—The timing and order in which agenda items are addressed may change as required to effectively address the issue, and the latest version along with other meeting materials will be posted on www.gulfcouncil.org as they become available.

Although other non-emergency issues not contained in this agenda may come before this Council for discussion, those issues may not be the subjects of formal action during this meeting. Council action will be restricted to those issues specifically listed in this notice and any issues arising after publication of this notice that require emergency action under section 305(c) of the Magnuson-Stevens Act, provided that the public has been notified of the Council's intent to take final action to address the emergency.

Special Accommodations

This meeting is physically accessible to people with disabilities. Requests for sign language interpretation or other auxiliary aids should be directed to Kathy Pereira (see ADDRESSES) at least 5 days prior to the meeting date.

Dated: May 23, 2018.
Tracey L. Thompson,
Acting Deputy Director, Office of Sustainable Fisheries, National Marine Fisheries Service.

[FR Doc. 2018-11386 Filed 5-25-18; 8:45 am]

BILLING CODE 3510-22-P